DEPARTMENT OF COMMERCE

National Oceanic and Atmospheric Administration

[I.D. 121200D]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Reef Fish Advisory Panel (AP) on January 5, 2001.

DATES: The Reef Fish AP will meet beginning at 9:00 a.m. on January 5, 2001.

ADDRESSES: The meeting will be held at the Chateau LeMoyne, 301 Dauphine Street, New Orleans, LA 70130; telephone: 504-581-1303.

Council address: Gulf of Mexico Fishery Management Council, 3018 U.S. Highway 301 North, Suite 1000, Tampa, FL 33619.

FOR FURTHER INFORMATION CONTACT: Mr. Steven Atran, Population Dynamics Statistician, Gulf of Mexico Fishery Management Council; telephone: 813-228-2815.

SUPPLEMENTARY INFORMATION: The Reef Fish AP will meet to review a report of the Reef Fish Stock Assessment Panel and to recommend total allowable catches (TACs) for red grouper and greater amberjack. The AP will also make recommendations on a proposed red snapper recovery plan that calls for converting from a constant catch to a constant fishing mortality rate strategy beginning in 2004, and thereafter a review and adjustment of TAC at five-year intervals. In addition, the AP will review an early draft of options being considered for including in a new Reef Fish plan amendment. These options deal with a longline limited entry system, moving the longline boundary line, phasing out the use of longlines, the use of cut-up reef fish for bait, an electronic vessel monitoring system for longline and fish trap vessels, the use of powerheads when spearfishing, requiring operator permits for commercial and charter/headboat operators, a commercial grouper fishery endorsement, grouper closed seasons, prohibiting the import of undersized red snapper, eliminating dormant reef fish permits, and changes to the species listed in the reef fish management unit and deep-water grouper aggregation. Additional options may be added or deleted as this options paper is developed into Reef Fish Amendment 18.

Although other non-emergency issues not on the agenda may come before the AP for discussion, in accordance with the Magnuson-Stevens Fishery Conservation and Management Act, those issues may not be the subject of formal action during these meetings. Actions of the AP will be restricted to those issues specifically identified in the agendas and any issues arising after publication of this notice that require emergency action under Section 305(c) of the Magnuson-Stevens Act, provided the public has been notified of the Council's intent to take action to address the emergency.

Copies of the agenda can be obtained by calling 813-228-2815.

Special Accommodations

This meeting is physically accessible to people with disabilities. Requests for sign language interpretation or other auxiliary aids should be directed to Anne Alford at the Council (see ADDRESSES) by December, 27, 2000.

Dated: December 12, 2000.
Richard W. Surdi,
Acting Director, Office of Sustainable Fisheries, National Marine Fisheries Service.

[FR Doc. 00-32169 Filed 12-15-00; 8:45 am]

BILLING CODE 3510-22-S